DEPARTMENT OF COMMERCE

National Institute of Standards and Technology

Information Collection Activities; Submission to the Office of Management and Budget (OMB) for Review and Approval; Comment Request; Recipient Reporting Information Collection Request (ICR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 07/21/2023 during a 60-day comment period. This notice allows for an additional 30 days for public comments.

Agency: National Institute of Standards and Technology (NIST), Commerce.

Title: Recipient Reporting.

OMB Control Number: 0693-XXXX.

Form Number(s): None.

Type of Request: Regular. This is a new collection.

Number of Respondents: 90.

Average Hours per Response: 16 hours, 4 times per year.

Burden Hours: 5,760 hours per year.

Needs and Uses: The CHIPS Program Office (CPO) is collecting information from recipients of CHIPS funding for the purposes of monitoring award performance; ensuring compliance with the terms of an award; general programmatic financial management activities, including decisions to disburse funds; and executing long-term program evaluation initiatives. The CPO will collect information via regular reporting and event-driven reporting. Information will be collected via an awardee's Salesforce portal and recipients will only report on information that is part of the terms of their award. Information in the following topic areas may be collected: project health, construction, operations and production, financials, research and development, workforce, national security, community investments and inclusive opportunities for businesses, project milestones, and environment.

Affected Public: Business or other for-profit organizations.

Frequency: Recurring during lifespan of an award on quarterly submission schedule.

Respondent's Obligation: Mandatory to receive and maintain CHIPS Act funding.

Legal Authority: CHIPS Act of 2022 (Division A of Pub. L. 117-167) (the Act).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-XXXX.

Sheleen Dumas,
Department PRA Clearance Officer, Office of the Under Secretary for Economic Affairs, Commerce Department.

[FR Doc. 2024-16779 Filed 7-30-24; 8:45 am]

BILLING CODE 3510-13-P